FEDERAL COMMUNICATIONS COMMISSION

47 CFR Part 73

[DA 01-2046, MM Docket No. 00-137, RM-9917, RM-10161]

Digital Television Broadcast Service; Reno, NV

AGENCY: Federal Communications Commission.

ACTION: Final rule.

SUMMARY: The Commission, at the request of Sierra Broadcasting Company and Smith Television License Holdings, Inc., substitutes DTV channel 7 for DTV channel 34 for station KRNV(TV) and substitutes DTV channel 9c for DTV channel 23 for station KOLO-TV at Reno, Nevada. See 65 FR 51278, August 23, 2000. DTV channels 7 and 9 can be allotted to Reno, respectively, in compliance with the principle community coverage requirements of Section 73.625(a). DTV channel 7 can be allotted at coordinates 39-18-57 N. and 119-53-00 W. with a power of 16.8, HAAT of 857 meters and with a DTV service population of 449 thousand. DTV channel 9c can be allotted at coordinates 39-18-49 N. and 119-53-00 W. with a power of 15.6, HAAT of 893 meters and with a DTV service population of 511 thousand.

With is action, this proceeding is terminated.

DATES: Effective October 22, 2001.

FOR FURTHER INFORMATION CONTACT: Pam Blumenthal, Mass Media Bureau, (202) 418-1600.

SUPPLEMENTARY INFORMATION: This is a synopsis of the Commission's Report and Order, MM Docket No. 00-137, adopted August 30, 2001, and released September 5, 2001. The full text of this document is available for public inspection and copying during regular business hours in the FCC Reference Information Center, Portals II, 445 12th Street, S.W., Room CY-A257, Washington, DC. This document may also be purchased from the Commission's duplicating contractor, Qualex International, Portals II, 445 12th Street, SW, CY-B402, Washington, DC, 20554, telephone 202-863-2893, facsimile 202-863-2898, or via e-mail qualexint@aol.com.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, and 336.

§ 73.622 [Amended]

2. Section 73.622(b), the Table of Digital Television Allotments under Nevada, is amended by removing DTV channel 34 and adding DTV channel 7 at Reno.

3. Section 73.622(b), the Table of Digital Television Allotments under Nevada, is amended by removing DTV channel 23 and adding DTV channel 9c at Reno.

Federal Communications Commission.
Barbara A. Kreisman,
Chief, Video Services Division, Mass Media Bureau.

[FR Doc. 01-23057 Filed 9-13-01; 8:45 am]

BILLING CODE 6712-01-P